DEPARTMENT OF COMMERCE

National Oceanic and Atmospheric Administration

RIN 0648-XE122

Draft 2015 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on the draft 2015 SARs.

DATES: Comments must be received by December 29, 2015.

ADDRESSES: The 2015 draft SARs are available in electronic form via the Internet at http://www.nmfs.noaa.gov/pr/sars/draft.htm.

Copies of the Alaska Regional SARs may be requested from Marcia Muto, Alaska Fisheries Science Center, NMFS, 7600 Sand Point Way NE., BIN 15700, Seattle, WA 98115-0070.

Copies of the Atlantic, Gulf of Mexico, and Caribbean Regional SARs may be requested from Peter Corkeron, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by NOAA-NMFS-2015-0108, by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Stock Assessments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge, Office of Protected Resources, 301-427-8402, Shannon.Bettridge@noaa.gov; Marcia Muto 206- 526-4026, Marcia.Muto@noaa.gov, regarding Alaska regional stock assessments; Peter Corkeron, 508-495-2191, Peter.Corkeron@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States, including the Exclusive Economic Zone. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) for which the level of direct human-caused mortality exceeds the potential biological removal level; (B) which, based on the best available scientific information, is declining and is likely to be listed as a threatened species under the Endangered Species Act (ESA) within the foreseeable future; or (C) which is listed as a threatened species or endangered species under the ESA. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information.

NMFS solicits public comments on the draft 2015 SARs.

Alaska Reports

In the Alaska region, SARs for 31 Alaska stocks (15 “strategic”, 16 “non-strategic”) were updated. All stocks were reviewed and the following stocks were revised for 2015: Steller sea lion, western U.S.; northern fur seal, eastern Pacific; bearded seal, Alaska; ringed seal, Alaska; beluga whale, Cook Inlet; killer whale, AT1 transient; harbor porpoise, Southeast Alaska; harbor porpoise, Gulf of Alaska; harbor porpoise, Bering Sea; sperm whale, North Pacific; humpback whale, Western North Pacific; humpback whale, Central North Pacific; fin whale, Northeast Pacific; right whale, Eastern North Pacific; bowhead whale, Western Arctic; harbor seal (12 stocks); ribbon seal, Alaska; Pacific white-sided dolphin, Central North Pacific; Dall's porpoise, Alaska; and minke whale, Alaska. Information on the remaining Alaska region stocks can be found in the final 2014 reports (Allen and Angliss, 2015).

Most revisions to the Alaska SARs included updates of abundance and/or mortality and serious injury estimates, including revised abundance estimates for the 12 stocks of harbor seals and for the two stocks of humpback whales. No changes in stock status occurred.

Atlantic Reports

In the Atlantic region (including the Atlantic Ocean, Gulf of Mexico, and U.S. territories in the Caribbean), 43 reports for 69 stocks were updated. Of the updated stocks, 51 stocks are “strategic,” and 18 are “non-strategic.” Two common bottlenose dolphin stocks, the Gulf of Mexico northern coastal and Gulf of Mexico western coastal, changed in status from strategic to non-strategic. This change is a technical correction, and not due to a change in abundance, PBR, mortality estimates, or ESA listing status.

All stocks were reviewed and reports for the following strategic stocks were revised for 2015: North Atlantic right whale; humpback whale, Gulf of Maine; fin whale, Western North Atlantic (WNA); sei whale, Nova Scotia; sperm whale, Gulf of Mexico; Bryde's whale, Gulf of Mexico; and the following common bottlenose dolphin stocks: WNA northern migratory coastal; WNA southern migratory coastal; WNA South Carolina (SC)/Georgia (GA) coastal; WNA northern Florida coastal; WNA central Florida coastal; Northern NC Estuarine System; Southern NC Estuarine System; Northern SC Estuarine System; Charleston Estuarine System; Northern GA/Southern SC Estuarine System; Central GA Estuarine System; Southern GA Estuarine System; Jacksonville Estuarine System; Indian River Lagoon Estuarine System; Gulf of Mexico bay, sound, and estuary (27 stocks) Barataria Bay; Mississippi Sound, Lake Borgne, Bay Boudreau; St. Joseph Bay; and Choctawhatchee Bay.

Reports for the following non-strategic stocks were revised for 2015: Minke whale, Canadian east coast; Risso's dolphin, WNA; long-finned pilot whale, WNA; short-finned pilot whale, WNA; short-finned pilot whale, Gulf of Mexico; Atlantic white-sided dolphin, WNA; short-beaked common dolphin, WNA; harbor porpoise, Gulf of Maine/Bay of Fundy; harbor seal, WNA; gray seal, WNA; pantropical spotted dolphin, Gulf of Mexico; Risso's dolphin, Gulf of Mexico; Atlantic spotted dolphin, continental shelf and oceanic; and the following common bottlenose dolphin stocks: WNA offshore; Gulf of Mexico continental shelf; Gulf of Mexico northern coastal; Gulf of Mexico western coastal; and Gulf of Mexico eastern coastal.

Information on the remaining Atlantic region stocks can be found in the final 2014 reports (Waring et al., 2015).

Most revisions to the Atlantic SARs included updates of abundance and/or mortality and serious injury estimates. No changes in stock status occurred.

Pacific Reports

In the Pacific region (waters along the west coast of the United States, within waters surrounding the main and Northwest Hawaiian Islands, and within waters surrounding U.S. territories in the Western Pacific), SARs were revised for 8 stocks under NMFS jurisdiction (5 “strategic” and 3 “non-strategic” stocks).

All stocks were reviewed and reports for the following strategic stocks were revised for 2015: Hawaiian monk seal; Southern Resident killer whale; false killer whale, Main Hawaiian Islands Insular; false killer whale, Hawaii Pelagic; and blue whale, Eastern North Pacific. Reports for the following non-strategic stocks were revised for 2015: false killer whale, Northwestern Hawaiian Islands; Bryde's whale, Eastern Tropical Pacific; and Northern fur seal, California. Information on the remaining Pacific region stocks can be found in the final 2014 reports (Carretta et al., 2015).

New abundance estimates are available for three stocks in the Pacific Islands region (Hawaiian monk seal, Hawaii Pelagic and Northwestern Hawaiian Islands false killer whales) and two U.S. west coast stocks (Southern Resident killer whale and California northern fur seal). The stock range and boundaries of the three Hawaiian stocks of false killer whales were recently reevaluated based on new information on the occurrence and movements of each stock. The three stocks have partially overlapping ranges. No changes in stock status occurred.

A stock assessment report for the Eastern Tropical Pacific stock of Bryde's whale has been reinstated into the Pacific reports in response to a regular and increasing presence of this species in southern California waters. The Eastern Tropical Pacific Bryde's whale report last appeared in the Pacific stock assessments in 2007.

The genus of Hawaiian monk seal has been changed from Monachus to Neomonachus to reflect new genetic and skull morphology data.

The report for Eastern North Pacific blue whales includes new information on historic whaling removals, the population's status relative to carrying capacity, and risk of ship strikes to the population.

Dated: September 25, 2015.
Donna S. Wieting,
Director, Office of Protected Resources, National Marine Fisheries Service.

[FR Doc. 2015-24762 Filed 9-29-15; 8:45 am]

BILLING CODE 3510-22-P